DEPARTMENT OF TRANSPORTATION

Federal Aviation Administration

Public Notice For Waiver of Aeronautical Land-Use Assurance Mankato Regional Airport, Mankato, MN

AGENCY: Federal Aviation Administration, DOT

ACTION: Notice of intent of waiver with respect to land.

SUMMARY: The Federal Aviation Administration (FAA) is considering a proposal to authorize the release of 2.35 acres of the airport property at the Mankato Regional Airport, Mankato MN. The City is proposing a land swap to exchange this 2.35 acre parcel for another parcel of 2.0 acres.

The acreage being released is not needed for aeronautical use as currently identified on the Airport Layout Plan. The acreage comprising this parcel was originally acquired in 1982 and funded with an Airport Improvement Program (AIP) grant (3-27-0055-05-87). In exchange for the 2.35 acres the airport will receive a new parcel of land in the Runway Protection Zone (RPZ) to Runway 33. The FAA approved a Categorical Exclusion for environmental requirements on May 30, 2014. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before April 21, 2016.

ADDRESSES: Ms. Sandra E. DePottey, Program Manager, Federal Aviation Administration, Airports District Office, 6020 28th Avenue South, Room 102, Minneapolis, MN 55450-2706. Telephone Number (612) 253-4642/FAX Number (612) 253-4611. Documents reflecting this FAA action may be reviewed at this same location or at the Minnesota Department of Transportation, 222 East Plato Blvd., St. Paul, MN 55107.

FOR FURTHER INFORMATION CONTACT: Ms. Sandra E. DePottey, Program Manager, Federal Aviation Administration, Airports District Office, 6020 28th Avenue South, Room 102, Minneapolis, MN 55450-2706. Telephone Number (612) 253-4642/FAX Number (612) 253-4611. Documents reflecting this FAA action may be reviewed at this same location or at the Minnesota Department of Transportation, 222 East Plato Blvd., St. Paul, MN 55107.

SUPPLEMENTARY INFORMATION: Following is a description of the subject airport property to be released at Mankato Regional Airport in Mankato, Minnesota and described as follows:

A parcel of land to the Southeast of the Airport along the extended centerline of Runway 15/33, East of 594th Avenue, and North of 230th Street. Also identified as Lot 1, Block 3, Hilgers subdivision #2 (Hilgers Lot 1).

Said parcel subject to all easements, restrictions, and reservations of record.

Issued in Minneapolis, MN, on January 28, 2016.
Andy Peek,
Manager, Dakota-Minnesota Airports District Office, FAA, Great Lakes Region.

[FR Doc. 2016-06464 Filed 3-21-16; 8:45 am]

BILLING CODE 4910-13-P